DEPARTMENT OF ENERGY

Federal Energy Regulatory Commission

Combined Notice of Filings

Take notice that the Commission has received the following Natural Gas Pipeline Rate and Refund Report filings:

Filings Instituting Proceedings

Docket Numbers: RP15-1138-000.

Applicants: Algonquin Gas Transmission, LLC.

Description: Section 4(d) Rate Filing: BUG 2015-08-01 Ramapo Release to be effective 8/1/2015.

Filed Date: 7/29/15.

Accession Number: 20150729-5025.

Comments Due: 5 p.m. ET 8/10/15.

Docket Numbers: RP15-1139-000.

Applicants: Algonquin Gas Transmission, LLC.

Description: Section 4(d) Rate Filing: KeySpan 2015-08-01 Ramapo Release to be effective 8/1/2015.

Filed Date: 7/29/15.

Accession Number: 20150729-5027.

Comments Due: 5 p.m. ET 8/10/15.

Docket Numbers: RP15-1140-000.

Applicants: Algonquin Gas Transmission, LLC.

Description: Section 4(d) Rate Filing: BBPC 2015-08-01 Releases to EDF Trading to be effective 8/1/2015.

Filed Date: 7/29/15.

Accession Number: 20150729-5028.

Comments Due: 5 p.m. ET 8/10/15.

Docket Numbers: RP15-1141-000.

Applicants: Algonquin Gas Transmission, LLC.

Description: Section 4(d) Rate Filing: ConEdison 2015-08-01 Ramapo Release to Spark Energy to be effective 8/1/2015.

Filed Date: 7/29/15.

Accession Number: 20150729-5029.

Comments Due: 5 p.m. ET 8/10/15.

Docket Numbers: RP15-1142-000.

Applicants: Questar Pipeline Company.

Description: Section 4(d) Rate Filing: ? 31, Capacity Reserved for Future Expansion, Version 1.0.0 to be effective 9/1/2015.

Filed Date: 7/29/15.

Accession Number: 20150729-5062.

Comments Due: 5 p.m. ET 8/10/15.

Docket Numbers: RP15-1143-000.

Applicants: Alliance Pipeline L.P.

Description: Section 4(d) Rate Filing: August 1-14 2015 Auction to be effective 8/1/2015.

Filed Date: 7/29/15.

Accession Number: 20150729-5071.

Comments Due: 5 p.m. ET 8/10/15.

Docket Numbers: RP15-1144-000.

Applicants: Florida Gas Transmission Company, LLC.

Description: Section 4(d) Rate Filing: Negotiated Rates Filing on 7-30-15 to be effective 8/1/2015.

Filed Date: 7/30/15.

Accession Number: 20150730-5031.

Comments Due: 5 p.m. ET 8/11/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 30, 2015.
Nathaniel J. Davis, Sr.,
Deputy Secretary.

[FR Doc. 2015-19322 Filed 8-5-15; 8:45 am]

BILLING CODE 6717-01-P